DEPARTMENT OF TRANSPORTATION

Federal Aviation Administration

Proposed Advisory Circular; Guidance Material for 14 CFR 33.19, Durability, for Reciprocating Engine Redesigned Parts

AGENCY: Federal Aviation Administration, DOT.

ACTION: Notice of availability of proposed advisory circular and request for comments.

SUMMARY: The Federal Aviation Administration (FAA) announces the availability of proposed Advisory Circular (AC) Number 33.19-1, Guidance Material For 14 CFR 33.19, Durability, For Reciprocating Engine Redesigned Parts.

DATES: Comments must be received on or before October 31, 2002.

ADDRESSES: Send all comments on the proposed AC to the Federal Aviation Administration, Attn: Mark Rumizen, Engine and Propeller Standards Staff, ANE-110, 12 New England Executive Park, Burlington, MA 01803-5299.

FOR FURTHER INFORMATION CONTACT: Mark Rumizen, Engine and Propeller Standards Staff, ANE-110, at the above address; telephone: (781) 238-7113; fax: (781) 238-7199; e-mail: mark.rumizen@faa.gov.

SUPPLEMENTARY INFORMATION:

Comments Invited

A copy of the subject AC may be obtained by contacting the person named under FOR FURTHER INFORMATION CONTACT or by downloading the proposed AC from the following Internet Web site: http://www.airweb.faa.gov/rgl. The FAA invites interested parties to comment on the proposed AC. Comments should identify the subject of the AC and be submitted to the individual identified under FOR FURTHER INFORMATION CONTACT. The FAA will consider all communications received by the closing date before issuing the final AC.

Background

This AC provides guidance and acceptable methods, but not the only methods, that may be used to demonstrate that redesigned parts for reciprocating engines comply with the requirements of 14 CFR 33.19 or § 13.104 of the Civil Air Regulations (CAR). This AC addresses type design changes, parts manufacturing approvals (PMA), and supplemental type certificates (STC) for critical, highly stressed, or complex parts in reciprocating engines.

(Authority: 49 U.S.C. 106(g), 40113, 44701-44702, 44704.)

Issued in Burlington, Massachusetts, on August 21, 2002.
Francis Favara,
Assistant Manager, Engine and Propeller Directorate, Aircraft Certification Service.

[FR Doc. 02-22120 Filed 8-29-02; 8:45 am]

BILLING CODE 4910-13-M